FEDERAL MARITIME COMMISSION

[Petition P8-03]

Petition of Bax Global Inc. for Rulemaking; Reopening of Comment Period; Oral Presentations

Bax Global Inc. (“Petitioner”) has petitioned for the issuance of a rulemaking pursuant to 46 CFR 502.51. Petitioner seeks a rulemaking to amend the Commission's regulations to permit Petitioner to enter into confidential service contracts as “ocean common carriers” with their shipper-clients for the ocean transportation of cargo. The period for the filing of comments in response to the petition closed on October 10, 2003.

The Commission has determined to re-open the comment period. Interested persons are requested to submit views or arguments in reply to the petition, or in reply to comments already received, no later than January 16, 2004. Comments shall consist of an original and 15 copies, and shall be directed to the Secretary, Federal Maritime Commission, 800 North Capitol Street NW., Washington, DC 20573-0001. It is also requested that a copy be submitted in electronic form (WordPerfect, Word or ASCII) on diskette, or e-mailed to Secretary@fmc.gov.

The Commission has also determined to permit interested persons to make oral presentations in this proceeding. At the discretion of individual Commissioners, interested persons may request one-on-one meetings at which they may make presentations describing their views on the petition. Any meeting or meetings shall be completed before the close of the comment period. A summary or transcript of each oral presentation will be included in the record and must be submitted to the Secretary of the Commission within 5 days of the meeting. Persons wishing to make oral presentations should contact the Office of the Secretary to secure contact names and numbers for individual Commissioners.

The Commission has determined to waive the service requirements found at 46 CFR 502.114(b). Instead, copies of all filed comments, and copies of summaries or transcripts of oral presentations, may be viewed on the Commission's web page at http://www.fmc.gov.

By the Commission.
Bryant L. VanBrakle,
Secretary.

[FR Doc. 03-28919 Filed 11-18-03; 8:45 am]

BILLING CODE 6730-01-P